LIBRARY OF CONGRESS

Copyright Office

[Docket No. RM 2001-7A]

Disruption or Suspension of Postal or Other Transportation or Communications Services

AGENCY: Copyright Office, Library of Congress.

ACTION: Determination of general disruption of postal services.

SUMMARY: Pursuant to newly promulgated 37 CFR 201.8, the Register of Copyrights announces her determination that there has been a general disruption or suspension of postal services that has delayed the receipt by the Copyright Office of deposits, applications, fees, and other materials submitted to the Office by means of the United States Postal Service.

DATES: The disruption of postal services commenced on October 18, 2001 and continues to the present.

FOR FURTHER INFORMATION CONTACT: David O. Carson, General Counsel, or Patricia Sinn, Senior Attorney, Office of the General Counsel, Copyright GC/I&R, P.O. Box 70400, Southwest Station, Washington, D.C. 20024-0400. Telephone: (202) 707-8380. Telefax: (202) 707-8366.

SUPPLEMENTARY INFORMATION: On December 4, 2001, the Copyright Office published in the Federal Register an interim regulation, to be codified at 37 CFR 201.8, addressing general disruptions or suspensions of postal or other transportation or communications services. The regulation implements 17 U.S.C. 709 and governs the circumstances under which the Register may assign, as the date of receipt for deposits, applications, fees and other materials submitted to the Office, the date on which the materials would have been received but for a general disruption or suspension of postal or other transportation or communications services.

The Register now publishes her determination that commencing on October 18, 2001, there has been a general disruption of postal services that has affected the delivery of deposits, applications, fees and other materials submitted to the Office. Persons who believe that they have been adversely affected by the disruption of postal services should comply with the provisions of 37 CFR 201.8.

When the disruption of postal services has ended, the Register shall publish a determination to that effect.

In the meantime, persons desiring to ensure prompt receipt of materials by the Copyright Office are encouraged to use alternative means such as delivery by private carriers or personal delivery rather than the United States Postal Service.

Dated: December 3, 2001.
Marybeth Peters,
Register of Copyrights.

[FR Doc. 01-30290 Filed 12-4-01; 8:45 am]

BILLING CODE 1410-30-P